INTERNATIONAL TRADE COMMISSION

Sunshine Act Meeting

Agency Holding the Meeting: United States International Trade Commission.

TIME AND DATE: February 13, 2001 at 11 a.m.

Place: Room 101, 500 E Street SW., Washington, DC 20436 Telephone: (202) 205-2000.

Status: Open to the public.

Matters to be considered: 1. Agenda for future meeting: none.

2. Minutes.

3. Ratification List.

4. Inv. Nos. 701-TA-355 and 731-TA-659-660 (Review) (Grain-Oriented Silicon Electrical Steel from Italy and Japan)—briefing and vote. (The Commission is currently scheduled to transmit its determination and Commissioners' opinions to the Secretary of Commerce on February 23, 2001.)

5. Outstanding action jackets:

(1) Document No. EC-01-003: Approval of final report in Inv. No. 332-413 (The Economic Impact of U.S. Sanctions with Respect to Cuba).

(2) Document No. ID-01-001: Approval of study coverage, objectives, methodology, travel requirements, annotated outline, and revised staffing plan and work schedule in Inv. No. 332-423 (The Effects of EU Policies on the Competitive Position of the U.S. and EU Horticultural Products Sector).

In accordance with Commission policy, subject matter listed above, not disposed of at the scheduled meeting, may be carried over to the agenda of the following meeting.

Issued: February 2, 2001.
By order of the Commission:
Donna R. Koehnke,
Secretary.

[FR Doc. 01-3332 Filed 2-5-01; 3:13 pm]

BILLING CODE 7020-02-U